DEPARTMENT OF COMMERCE

International Trade Administration

Secretarial Infrastructure Business Development Mission to Mexico November 18-23, 2013

AGENCY: International Trade Administration, Department of Commerce.

ACTION: Notice.

SUMMARY: The United States Department of Commerce, International Trade Administration, U.S. and Foreign Commercial Service is amending the Notice published at 78 FR 48855, August 12, 2013, regarding the Secretarial Infrastructure Business Development Mission to Mexico November 18-23, 2013, to revise the dates of the application deadline from September 13, 2013 to the new deadline of September 20, 2013.

SUPPLEMENTARY INFORMATION: Amendments to Revise the Application Deadline Dates.

Background

Recruitment for this Mission began in August 2013. Due to summer holidays, it has been determined that additional time is needed to allow for additional recruitment and marketing in support of the mission. Applications will now be accepted through September 20, 2013 (and after that date if space remains and scheduling constraints permit), interested companies which have not already submitted an application are encouraged to do so.

Amendments

For the reasons stated above, the Timeframe for Recruitment and Applications section of the Notice of the Secretarial Infrastructure Business Development Mission to Mexico November 18-23, 2013. Recruitment for this mission will conclude no later than September 20, 2013. We will inform all applicants of selection decisions no later than October 7, 2013. Applications received after the September 20, 2013 deadline will be considered only if space and scheduling constraints permit.

FOR FURTHER INFORMATION CONTACT: Jennifer Andberg, Office of Business Liaison, U.S. Department of Commerce, Phone: 202-482-1360; Fax: 202-482-5054, Email: businessliaison@doc.gov.

Frank Spector,
Senior International Trade Specialist.

[FR Doc. 2013-22824 Filed 9-18-13; 8:45 am]

BILLING CODE 3510-FP-P